DEPARTMENT OF ENERGY

Federal Energy Regulatory Commission

Combined Notice of Filings No. 1

February 4, 2010.

Take notice that the Commission has received the following Natural Gas Pipeline Rate and Refund Report filings:

Docket Numbers: RP10-340-000.

Applicants: Wyoming Interstate Company, Ltd.

Description: Wyoming Interstate Company, Ltd submits Twenty Seventh Revised Sheet 4C et al. to FERC Gas Tariff, Second Revised Volume 1, to be effective 3/1/10.

Filed Date: 02/01/2010.

Accession Number: 20100201-0217.

Comment Date: 5 p.m. Eastern Time on Tuesday, February 16, 2010.

Docket Numbers: RP10-341-000.

Applicants: Stingray Pipeline Company, LLC.

Description: Stingray Pipeline Company, LLC submits Eighth Revised Sheet 0 to its FERC Gas Tariff, Third Volume 1, to be effective 3/510.

Filed Date: 01/29/2010.

Accession Number: 20100201-0216.

Comment Date: 5 p.m. Eastern Time on Wednesday, February 10, 2010.

Docket Numbers: RP10-352-000.

Applicants: El Paso Natural Gas Company.

Description: El Paso Natural Gas Company submits its maximum delivery obligation/maximum hourly obligation Variance Activity Report to be effective 4/1/10.

Filed Date: 02/01/2010.

Accession Number: 20100202-0206.

Comment Date: 5 p.m. Eastern Time on Tuesday, February 16, 2010.

Docket Numbers: RP10-353-000.

Applicants: Colorado Interstate Gas Company.

Description: Colorado Interstate Gas Company submits First Revised Sheet 7C.01 et al. to First Revised Volume 1, to be effective 6/1/09.

Filed Date: 02/01/2010.

Accession Number: 20100202-0205.

Comment Date: 5 p.m. Eastern Time on Tuesday, February 16, 2010.

Docket Numbers: RP10-354-000.

Applicants: Northern Natural Gas Company.

Description: Northern Natural Gas Company submits 79 Revised Sheet 50 et al. to its FERC Gas Tariff, Fifth Revised Volume 1, to be effective 4/1/10.

Filed Date: 02/01/2010.

Accession Number: 20100202-0204.

Comment Date: 5 p.m. Eastern Time on Tuesday, February 16, 2010.

Docket Numbers: RP10-355-000.

Applicants: Rockies Express Pipeline LLC.

Description: Rockies Express Pipeline LLC submits Eighth Revised Sheet No. 8C et al. to FERC Gas Tariff, Second Revised Volume No. 1, to be effective 2/1/20.

Filed Date: 02/01/2010.

Accession Number: 20100202-0249.

Comment Date: 5 p.m. Eastern Time on Tuesday, February 16, 2010.

Docket Numbers: RP10-356-000.

Applicants: Transcontinental Gas Pipe Line Company.

Description: Transcontinental Gas Pipe Line Company submits First Revised Sheet No. 310 et al. to FERC Gas Tariff, Fourth Revised Volume No. 1, to be effective 3/3/10.

Filed Date: 02/01/2010.

Accession Number: 20100202-0250.

Comment Date: 5 p.m. Eastern Time on Tuesday, February 16, 2010.

Docket Numbers: RP10-357-000.

Applicants: Gulf Crossing Pipeline Company LLC.

Description: Gulf Crossing Pipeline Company, LLC submits First Revised Sheet 1001 to FERC Gas Tariff, Sixth Revised Volume 1, to be effective 3/4/10.

Filed Date: 02/02/2010.

Accession Number: 20100203-0204.

Comment Date: 5 p.m. Eastern Time on Tuesday, February 16, 2010.

Docket Numbers: RP10-358-000.

Applicants: Northern Natural Gas Company.

Description: Northern Natural Gas Company submits Twenty Third Revised Sheet No. 66B et al. to FERC Gas Tariff, Fifth Revised Volume No 1, to be effective 2/3/10.

Filed Date: 02/02/2010.

Accession Number: 20100203-0205.

Comment Date: 5 p.m. Eastern Time on Tuesday, February 16, 2010.

Docket Numbers: RP10-359-000.

Applicants: Rockies Express Pipeline LLC.

Description: Rockies Express Pipeline LLC submits Fifteenth Revised Sheet 10 to its FERC Gas Tariff, Second Revised Volume 1, to be effective 2/2/10.

Filed Date: 02/02/2010.

Accession Number: 20100203-0206.

Comment Date: 5 p.m. Eastern Time on Tuesday, February 16, 2010.

Docket Numbers: RP10-360-000.

Applicants: Texas Gas Transmission, LLC.

Description: Texas Gas Transmission, LLC submits Second Revised Sheet 1 et al. to its FERC Gas Tariff, Third Revised Volume 1, to be effective 3/4/10.

Filed Date: 02/02/2010.

Accession Number: 20100203-0207.

Comment Date: 5 p.m. Eastern Time on Tuesday, February 16, 2010.

Any person desiring to intervene or to protest in any of the above proceedings must file in accordance with Rules 211 and 214 of the Commission's Rules of Practice and Procedure (18 CFR 385.211 and 385.214) on or before 5 p.m.. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-4635 Filed 3-4-10; 8:45 am]

BILLING CODE 6717-01-P